DEPARTMENT OF EDUCATION

Notice of Waivers Granted under Section 9401 of the Elementary and Secondary Education Act, as Amended

Summary: In this notice, we announce the waivers that the U.S. Department of Education (Department) has granted, from the date of enactment of the No Child Left Behind Act of 2001 through December 31, 2006, under the waiver authority in section 9401 of the Elementary and Secondary Education Act of 1965 (ESEA). The Department considered waiver requests in several different categories: (1) Waivers related to Hurricanes Katrina and Rita; (2) growth model pilots; (3) waivers allowing local educational agencies (LEAs) to provide supplemental educational services (SES) rather than public school choice to eligible students attending schools that receive funding under Part A of Title I of the ESEA (Title I schools) and are in the first year of school improvement; (4) waivers allowing LEAs in need of improvement to be eligible to apply to their State educational agency (SEA) to become SES providers; (5) general programmatic waivers; (6) extensions of the period in which funds are available for obligation; and (7) waivers allowing recipients of funds under the Indian Education program to charge additional administrative costs to the program.

Waiver Data

I. Waivers Related to Hurricanes Katrina and Rita

Through December 31, 2006, the Department granted the following hurricane-related waivers to States under the general waiver authority in section 9401 of the ESEA:

1. Waiver Applicant: Alabama Department of Education

• Provisions waived: Sections 1111(b)(2)(C)(v) and 1111(h)(1)(C) of the ESEA.

• Date waiver granted: May 18, 2006.

• Description of waiver: Permitted Alabama to create a separate subgroup for students displaced by Hurricanes Katrina and Rita for adequate yearly progress (AYP) decisions based on assessment data for the 2005-2006 school year.

2. Waiver Applicant: Arkansas Department of Education

• Provisions waived: Sections 1111(b)(2)(C)(v) and 1111(h)(1)(C) of the ESEA.

• Date waiver granted: May 19, 2006.

• Description of waiver: Permitted Arkansas to create a separate subgroup for students displaced by Hurricanes Katrina and Rita for AYP decisions based on assessment data for the 2005-2006 school year.

3. Waiver Applicant: Georgia Department of Education

• Provisions waived: Sections 1111(b)(2)(C)(v) and 1111(h)(1)(C) of the ESEA.

• Date waiver granted: April 19, 2006.

• Description of waiver: Permitted Georgia to create a separate subgroup for students displaced by Hurricanes Katrina and Rita for AYP decisions based on assessment data for the 2005-2006 school year.

4. Waiver Applicant: Georgia Department of Education

• Provisions waived: Sections 1116(b)(1)(E) and 1116(b)(5)(B) of the ESEA.

• Date waiver granted: May 5, 2006.

• Description of waiver: For the 2006-2007 school year, because of the large number of students displaced by Hurricane Katrina, permits the Dekalb County School District to provide SES, rather than public school choice, to eligible students attending Title I schools in the first year of school improvement.

5. Waiver Applicant: Louisiana Department of Education

• Provision waived: Section 2416(a)(1) of the ESEA.

• Date waiver granted: September 21, 2005.

• Description of waiver: Waived, with respect to FY 2004 and FY 2005 Title II, Part D, ESEA (Educational Technology) funds, the requirement that districts spend at least 25 percent of those funds on professional development.

6. Waiver Applicant: Louisiana Department of Education

• Provision waived: Tydings Amendment, section 421(b) of the General Education Provisions Act (GEPA).

• Date waiver granted: September 21, 2005.

• Description of waiver: Extended by one year the period of availability for all ESEA funds that otherwise would have expired on September 30, 2005.

7. Waiver Applicant: Louisiana Department of Education

• Provision waived: Section 1127 of the ESEA.

• Date waiver granted: September 21, 2005.

• Description of waiver: Permitted Louisiana to waive for its districts, more than once every three years, the 15 percent carryover limitation for FY 2003 Title I, Part A, ESEA funds.

8. Waiver Applicant: Louisiana Department of Education

• Provisions waived: Sections 1116(b)(1)(E)(i) and 1116(b)(5)(B) of the ESEA.

• Date waiver granted: January 13, 2006.

• Description of waiver: For the 2005-2006 school year, permitted the LEAs of three parishes—Orleans, Calcasieu, and Jefferson—to provide SES, rather than public school choice, to eligible students attending Title I schools in their first year of school improvement.

9. Waiver Applicant: Louisiana Department of Education

• Provision waived: Tydings Amendment, section 421(b) of GEPA.

• Date waiver granted: July 27, 2006.

• Description of waiver: Extended by one year the period of availability for all ESEA funds that otherwise would have expired on September 30, 2006.

10. Waiver Applicant: Louisiana Department of Education

• Provision waived: Section 1127 of the ESEA.

• Date waiver granted: July 27, 2006.

• Description of waiver: Extended to FY 2004 and FY 2005 Title I, Part A, ESEA funds a previously granted waiver allowing Louisiana to waive for its districts, more than once every three years, the 15 percent Title I, Part A, ESEA carryover limitation.

11. Waiver Applicant: Louisiana Department of Education

• Provisions waived: Sections 1111(b)(2)(C)(v) and 1111(h)(1)(C) of the ESEA.

• Date waiver granted: August 2, 2006.

• Description of waiver: Permitted Louisiana to create a separate subgroup for students displaced by Hurricanes Katrina and Rita for AYP decisions based on assessment data for the 2005-2006 school year.

12. Waiver Applicant: Louisiana Department of Education

• Provisions waived: Sections 1116(b)(1), (5), (7), and (8) of the ESEA.

• Date waiver granted: August 2, 2006.

• Description of waiver: Provided greater flexibility in making accountability determinations for districts and schools that were closed for 18 or more instructional days and were located in an area declared a disaster area due to Hurricanes Katrina or Rita.

13. Waiver Applicant: Mississippi Department of Education

• Provision waived: Tydings Amendment, section 421(b) of GEPA.

• Date waiver granted: September 12, 2005.

• Description of waiver: Extended by one year the period of availability for all ESEA funds that otherwise would have expired on September 30, 2005.

14. Waiver Applicant: Mississippi Department of Education

• Provision waived: Section 2416(a)(1) of the ESEA.

• Date waiver granted: December 14, 2005.

• Description of waiver: Waived, with respect to FY 2004 and FY 2005 Title II, Part D, ESEA (Educational Technology) funds, the requirement that districts must spend at least 25 percent of those funds on professional development.

15. Waiver Applicant: Mississippi Department of Education

• Provisions waived: Sections 1111(b)(2)(C)(v) and 1111(h)(1)(C) of the ESEA.

• Date waiver granted: June 28, 2006.

• Description of waiver: Permitted Mississippi to create a separate subgroup for students displaced by Hurricanes Katrina and Rita for AYP decisions based on assessment data for the 2005-2006 school year.

16. Waiver Applicant: Tennessee Department of Education

• Provisions waived: Sections 1111(b)(2)(C)(v) and 1111(h)(1)(C) of the ESEA.

• Date waiver granted: May 19, 2006.

• Description of waiver: Permitted Tennessee to create a separate subgroup for students displaced by Hurricanes Katrina and Rita for AYP decisions based on assessment data for the 2005-2006 school year.

17. Waiver Applicant: Texas Education Agency

• Provisions waived: Sections 1111(b)(2)(C)(v) and 1111(h)(1)(C) of the ESEA.

• Date waiver granted: May 23, 2006.

• Description of waiver: Permitted Texas to create a separate subgroup for students displaced by Hurricanes Katrina and Rita for AYP decisions based on assessment data for the 2005-2006 school year.

18. Waiver Applicant: Texas Education Agency

• Provisions waived: Sections 1116(b)(1), (5), (7), and (8) of the ESEA.

• Date waiver granted: May 23, 2006.

• Description of waiver: Provided greater flexibility in making accountability determinations for districts and campuses that were closed for 7 or more instructional days and were located in an area declared a disaster area due to Hurricane Rita.

II. Other Section 9401 Waivers

In addition to the waivers related to Hurricanes Katrina and Rita, the Department has granted the following waivers to States and districts, through December 31, 2006, under the general waiver authority in section 9401 of the ESEA:

A. Growth Model Pilots

1. Waiver Applicant: North Carolina Department of Public Instruction

• Provision waived: Section 1111(b)(2) of the ESEA.

• Date waiver granted: May 17, 2006.

• Description of waiver: Provided North Carolina the flexibility to implement a growth-based accountability model as part of determining AYP beginning in the 2005-2006 school year, conditioned on the State's having received approval of its assessment system by July 1, 2006.

2. Waiver Applicant: Tennessee Department of Education

• Provision waived: Section 1111(b)(2) of the ESEA.

• Date waiver granted: May 17, 2006.

• Description of waiver: Provided Tennessee the flexibility to implement a growth-based accountability model as part of determining AYP beginning in the 2005-2006 school year.

3. Waiver Applicant: Arkansas Department of Education

• Provision waived: Section 1111(b)(2) of the ESEA.

• Date waiver granted: November 9, 2006.

• Description of waiver: Provided Arkansas the flexibility to implement a growth-based accountability model as part of determining AYP beginning in the 2006-2007 school year, conditioned on the State's receiving approval of its standards and assessment system by the end of the 2006-2007 school year.

4. Waiver Applicant: Delaware Department of Education

• Provision waived: Section 1111(b)(2) of the ESEA.

• Date waiver granted: November 9, 2006.

• Description of waiver: Provided Delaware the flexibility to implement a growth-based accountability model as part of determining AYP beginning in the 2006-2007 school year.

5. Waiver Applicant: Florida Department of Education

• Provision waived: Section 1111(b)(2) of the ESEA.

• Date waiver granted: November 9, 2006.

• Description of waiver: Provided Florida the flexibility to implement a growth-based accountability model as part of determining AYP beginning in the 2006-2007 school year, conditioned on the State's receiving approval of its standards and assessment system by the end of the 2006-2007 school year.

B. Allowing Local Educational Agencies (LEAs) to Provide SES Rather Than Public School Choice to Eligible Students in Title I Schools in the First Year of School Improvement

1. Waiver Applicant: Virginia Department of Education

• Provisions waived: Sections 1116(b)(1)(E) and 1116(b)(5)(B) of the ESEA.

• Date waiver granted: August 25, 2005.

• Description of waiver: For the 2005-2006 school year, permitted four school districts—Alexandria City Schools, Henry County Public Schools, Newport News City Schools, and Stafford County Public Schools—to offer SES, rather than public school choice, to eligible students in Title I schools in the first year of school improvement.

2. Waiver Applicant: Alaska Department of Education and Early Development

• Provisions waived: Sections 1116(b)(1)(E) and 1116(b)(5)(B) of the ESEA.

• Date waiver granted: August 14, 2006.

• Description of waiver: For the 2006-2007 school year, permits the Anchorage School District to offer SES, rather than public school choice, to eligible students in Title I schools in the first year of school improvement.

3. Waiver Applicant: Delaware Department of Education

• Provisions waived: Sections 1116(b)(1)(E) and 1116(b)(5)(B) of the ESEA.

• Date waiver granted: August 14, 2006.

• Description of waiver: For the 2006-2007 school year, permits the New Castle Vocational and Technical School District to offer SES, rather than public school choice, to eligible students in Title I schools in the first year of school improvement.

4. Waiver Applicant: Indiana Department of Education

• Provisions waived: Sections 1116(b)(1)(E) and 1116(b)(5)(B) of the ESEA.

• Date waiver granted: July 25, 2006.

• Description of waiver: For the 2006-2007 school year, permits three school districts—Metropolitan School District of Decatur Township, Monroe County Community School Corporation, and Muncie Community Schools—to offer SES, rather than public school choice, to eligible students in Title I schools in the first year of school improvement.

5. Waiver Applicant: North Carolina Department of Public Instruction

• Provisions waived: Sections 1116(b)(1)(E) and 1116(b)(5)(B) of the ESEA.

• Date waiver granted: July 25, 2006.

• Description of waiver: For the 2006-2007 school year, permits seven school districts—Burke County, Cumberland County, Durham County, Guilford County, Northampton County, Pitt County, and Robeson County—to offer SES, rather than public school choice, to eligible students in Title I schools in the first year of school improvement.

6. Waiver Applicant: Virginia Department of Education

• Provisions waived: Sections 1116(b)(1)(E) and 1116(b)(5)(B) of the ESEA.

• Date waiver granted: July 25, 2006.

• Description of waiver: For the 2006-2007 school year, permits four school districts—Alexandria City Schools, Henry County Public Schools, Newport News City Schools, and Stafford County Public Schools—to offer SES, rather than public school choice, to eligible students in Title I schools in the first year of school improvement.

C. Allowing LEAs in Need of Improvement To Be Eligible to Apply to their SEA to Become SES Providers

1. Waiver Applicant: Boston Public Schools

• Provision waived: 34 CFR 200.47(b)(1)(iv)(B).

• Date waiver granted: November 3, 2005.

• Description of waiver: Permitted Boston Public Schools to be eligible to apply to its SEA to become a provider of SES to eligible students during the 2005-2006 school year even though the district was identified for improvement.

2. Waiver Applicant: Chicago Public Schools

• Provision waived: 34 CFR 200.47(b)(1)(iv)(B).

• Date waiver granted: November 3, 2005.

• Description of waiver: Permitted Chicago Public Schools to be eligible to apply to its SEA to become a provider of SES to eligible students during the 2005-2006 school year even though the district was identified for improvement.

3. Waiver Applicant: Anchorage School District

• Provision waived: 34 CFR 200.47(b)(1)(iv)(B).

• Date waiver granted: July 25, 2006.

• Description of waiver: Permitted the Anchorage School District to be eligible to apply to its SEA to become a provider of SES to eligible students during the 2006-2007 school year even though the district has been identified for improvement.

4. Waiver Applicant: Boston Public Schools

• Provision waived: 34 CFR 200.47(b)(1)(iv)(B).

• Date waiver granted: July 25, 2006.

• Description of waiver: Permitted Boston Public Schools to be eligible to apply to its SEA to become a provider of SES to eligible students during the 2006-2007 school year even though the district has been identified for improvement.

5. Waiver Applicant: Chicago Public Schools

• Provision waived: 34 CFR 200.47(b)(1)(iv)(B).

• Date waiver granted: July 25, 2006.

• Description of waiver: Permitted Chicago Public Schools to be eligible to apply to its SEA to become a provider of SES to eligible students during the 2006-2007 school year even though the district has been identified for improvement.

6. Waiver Applicant: Hillsborough County Public Schools

• Provision waived: 34 CFR 200.47(b)(1)(iv)(B).

• Date waiver granted: August 14, 2006.

• Description of waiver: Permitted Hillsborough County Public Schools to be eligible to apply to its SEA to become a provider of SES to eligible students during the 2006-2007 school year even though the district has been identified for improvement.

D. General Programmatic Waivers

1. Waiver Applicant: San Diego City Schools, CA

• Provision waived: 34 CFR 200.63(b)(1)(i) (2002).

• Date waiver granted: August 21, 2002.

• Description of waiver: Permitted San Diego to exclude from comparability determinations for school year 2002-2003 supplemental State and local funds that the district spent on a particular program (Blueprint for Student Success) implemented in schools that had less than 50 percent students from low-income families.

2. Waiver Applicant: San Diego City Schools, CA

• Provision waived: 34 CFR 200.79(b)(1) (2003).

• Date waiver granted: October 29, 2003.

• Description of waiver: Permitted San Diego to exclude from comparability determinations through school year 2005-2006 supplemental State and local funds that the district spent on a particular program (Blueprint for Student Success) implemented in schools that had less than 40 percent students from low-income families.

3. Waiver Applicant: Belleville Township High School District 201, IL

• Provisions waived: Sections 1113(a)(2) and 1113(c)(2)(A) of the ESEA.

• Date waiver granted: June 3, 2003.

• Description of waiver: Permitted the district to provide, through summer 2006, Title I, Part A, ESEA funding to its second high school, which has a poverty rate below the district-wide poverty rate, and to allocate an amount per poor child to both its high schools that is less than 125 percent of the amount of funds under Title I, Part A of the ESEA that the district received for the year.

4. Waiver Applicant: DuPage High School District 88, IL

• Provisions waived: Sections 1113(a)(2) and 1113(c)(2)(A) of the ESEA.

• Date waiver granted: August 27, 2004.

• Description of waiver: Permits the district to provide, through summer 2008, Title I, Part A, ESEA funding to its second high school, which has a poverty rate below the district-wide poverty rate, and to allocate an amount per poor child to both its high schools that is less than 125 percent of the amount of funds under Title I, Part A of the ESEA that the district received for the year.

5. Waiver Applicant: Belleville Township High School District 201, IL

• Provisions waived: Sections 1113(a)(2) and 1113(c)(2)(A) of the ESEA.

• Date waiver granted: April 26, 2006.

• Description of waiver: Extended Belleville's previously granted waiver, allowing the district to provide Title I, Part A, ESEA funding to its second high school, which has a poverty rate below the district-wide poverty rate, and to allocate an amount per poor child to both its high schools that is less than 125 percent of the amount of funds under Title I, Part A of the ESEA that the district received for the year.

6. Waiver Applicant: Minnesota Department of Education

• Provision waived: Section 1127 of the ESEA.

• Date waiver granted: July 1, 2004.

• Description of waiver: Permitted Minnesota to waive for its districts, more than once every three years, the 15 percent carryover limitation for FY 2003 and FY 2004 Title I, Part A, ESEA funds.

7. Waiver Applicant: New Hampshire School Administrative Unit No. 29, NH

• Provision waived: Section 1113(a)(1) of the ESEA.

• Date waiver granted: June 10, 2004.

• Description of waiver: Extended through the end of school year 2006-2007 a previously granted waiver that enables three schools that do not meet the Title I, Part A, ESEA eligibility requirements to continue to receive funds under the program.

8. Waiver Applicant: New York State Education Department

• Provision waived: Section 9201(a) of the ESEA.

• Date waiver granted: October 27, 2003.

• Description of waiver: Permitted New York to consolidate through the 2005-2006 school year certain Federal funds reserved for State administration even though a majority of the SEA's resources were not derived from non-Federal sources.

9. Waiver Applicant: New York State Education Department

• Provision waived: Section 9201(a) of the ESEA.

• Date waiver granted: June 7, 2006.

• Description of waiver: Permitted New York to consolidate certain FY 2006 Federal funds (and remaining carryover funds) reserved for State administration even though a majority of the SEA's resources are not derived from non-Federal sources.

10. Waiver Applicant: Clay County Schools, WV

• Provisions waived: Section 1113(c)(1) of the ESEA and 34 CFR 200.78(c).

• Date waiver granted: July 28, 2004.

• Description of waiver: Extended through the end of school year 2007-2008 a previously granted waiver that allows the district to allocate more Title I, Part A, ESEA funds per poor child to several elementary schools than to middle schools with a higher percentage of children from low-income families.

E. Extensions of the Obligation Period

1. Waiver Applicant: Alaska Department of Education

• Provision waived: Tydings Amendment, section 421(b) of GEPA.

• Date waiver granted: September 29, 2003.

• Description of waiver: Extended through December 31, 2004 the period of availability for funds awarded under the School Renovation program that otherwise would have expired on September 30, 2003.

2. Waiver Applicant: Colorado Department of Education

• Provision waived: Tydings Amendment, section 421(b) of GEPA.

• Date waiver granted: November 25, 2003.

• Description of waiver: Extended through December 31, 2004 the period of availability for funds awarded under the School Renovation program that otherwise would have expired on September 30, 2003.

3. Waiver Applicant: District of Columbia Public Schools

• Provision waived: Tydings Amendment, section 421(b) of GEPA.

• Date waiver granted: November 24, 2003.

• Description of waiver: Extended through December 31, 2003 the period of availability for funds awarded under the School Renovation program that otherwise would have expired on September 30, 2003.

4. Waiver Applicant: District of Columbia Public Schools

• Provision waived: Tydings Amendment, section 421(b) of GEPA.

• Date waiver granted: January 14, 2004.

• Description of waiver: Extended through February 29, 2004 the period of availability for funds awarded under the School Renovation program that otherwise would have expired on December 31, 2003.

5. Waiver Applicant: Florida Department of Education

• Provision waived: Tydings Amendment, section 421(b) of GEPA.

• Date waiver granted: September 29, 2003.

• Description of waiver: Extended through September 30, 2004 the period of availability for funds awarded under the School Renovation program that otherwise would have expired on September 30, 2003.

6. Waiver Applicant: Illinois State Board of Education

• Provision waived: Tydings Amendment, section 421(b) of GEPA.

• Date waiver granted: January 14, 2004.

• Description of waiver: Extended through June 30, 2004 the period of availability for funds awarded under the School Renovation program that otherwise would have expired on September 30, 2003.

7. Waiver Applicant: Maryland Department of Education

• Provision waived: Tydings Amendment, section 421(b) of GEPA.

• Date waiver granted: September 25, 2003.

• Description of waiver: Extended through December 15, 2003 the period of availability for funds awarded under the School Renovation program that otherwise would have expired on September 30, 2003.

8. Waiver Applicant: Massachusetts Department of Education

• Provision waived: Tydings Amendment, section 421(b) of GEPA.

• Date waiver granted: November 24, 2003.

• Description of waiver: Extended through June 30, 2004 the period of availability for funds awarded under the School Renovation program that otherwise would have expired on September 30, 2003.

9. Waiver Applicant: Michigan Department of Education

• Provision waived: Tydings Amendment, section 421(b) of GEPA.

• Date waiver granted: September 25, 2003.

• Description of waiver: Extended through September 30, 2004 the period of availability for funds awarded under the School Renovation program that otherwise would have expired on September 30, 2003.

10. Waiver Applicant: Nebraska Department of Education

• Provision waived: Tydings Amendment, section 421(b) of GEPA.

• Date waiver granted: January 14, 2004.

• Description of waiver: Extended through June 30, 2004 the period of availability for funds awarded under the School Renovation program that otherwise would have expired on September 30, 2003.

11. Waiver Applicant: Nevada Department of Education

• Provision waived: Tydings Amendment, section 421(b) of GEPA.

• Date waiver granted: January 14, 2004.

• Description of waiver: Extended through June 30, 2004 the period of availability for funds awarded under the School Renovation program that otherwise would have expired on September 30, 2003.

12. Waiver Applicant: New Jersey Department of Education

• Provision waived: Tydings Amendment, section 421(b) of GEPA.

• Date waiver granted: September 29, 2003.

• Description of waiver: Extended through September 30, 2004 the period of availability for funds awarded under the School Renovation program that otherwise would have expired on September 30, 2003.

13. Waiver Applicant: New Jersey Department of Education

• Provision waived: Tydings Amendment, section 421(b) of GEPA.

• Date waiver granted: June 17, 2005.

• Description of waiver: Extended through September 30, 2006 the period of availability for Title II, Part D, ESEA (Educational Technology) funds that otherwise would have expired on September 30, 2005.

14. Waiver Applicant: New Mexico Department of Education

• Provision waived: Tydings Amendment, section 421(b) of GEPA.

• Date waiver granted: September 24, 2003.

• Description of waiver: Extended through June 30, 2004 the period of availability for funds awarded under the School Renovation program that otherwise would have expired on September 30, 2003.

15. Waiver Applicant: New York State Education Department

• Provision waived: Tydings Amendment, section 421(b) of GEPA.

• Date waiver granted: March 31, 2005.

• Description of waiver: Extended through September 30, 2005 the period of availability for Title II, Part D, ESEA (Educational Technology) funds that otherwise would have expired on September 30, 2004.

16. Waiver Applicant: North Dakota Department of Education

• Provision waived: Tydings Amendment, section 421(b) of GEPA.

• Date waiver granted: September 29, 2003.

• Description of waiver: Extended through December 31, 2003 the period of availability for funds awarded under the School Renovation program that otherwise would have expired on September 30, 2003.

17. Waiver Applicant: Ohio Department of Education

• Provision waived: Tydings Amendment, section 421(b) of GEPA.

• Date waiver granted: November 24, 2003.

• Description of waiver: Extended through August 20, 2004 the period of availability for funds awarded under the School Renovation program that otherwise would have expired on September 30, 2003.

18. Waiver Applicant: Ohio Department of Education

• Provision waived: Tydings Amendment, section 421(b) of GEPA.

• Date waiver granted: March 31, 2005.

• Description of waiver: Extended through June 1, 2006 the period of availability for funds awarded under the School Renovation program that otherwise would have expired on August 20, 2004.

19. Waiver Applicant: Pennsylvania Department of Education

• Provision waived: Tydings Amendment, section 421(b) of GEPA.

• Date waiver granted: September 29, 2003.

• Description of waiver: Extended by six months the period of availability for funds awarded under section 6111 of the ESEA (Grants for State Assessments and Related Activities) that otherwise would have expired on September 30, 2003.

20. Waiver Applicant: Rhode Island Department of Education

• Provision waived: Tydings Amendment, section 421(b) of GEPA.

• Date waiver granted: July 29, 2003.

• Description of waiver: Extended through September 30, 2004 the period of availability for Title I, ESEA Accountability funds that otherwise would have expired on September 30, 2003.

21. Waiver Applicant: South Carolina Department of Education

• Provision waived: Tydings Amendment, section 421(b) of GEPA.

• Date waiver granted: September 29, 2003.

• Description of waiver: Extended through September 30, 2004 the period of availability for funds awarded under the School Renovation program that otherwise would have expired on September 30, 2003.

22. Waiver Applicant: Tennessee Department of Education

• Provision waived: Tydings Amendment, section 421(b) of GEPA.

• Date waiver granted: September 29, 2003.

• Description of waiver: Extended through December 30, 2003 the period of availability for funds awarded under the School Renovation program that otherwise would have expired on September 30, 2003.

23. Waiver Applicant: Washington Office of Public Instruction

• Provision waived: Tydings Amendment, section 421(b) of GEPA.

• Date waiver granted: November 24, 2003.

• Description of waiver: Extended through December 31, 2003 the period of availability for funds awarded under the School Renovation program that otherwise would have expired on September 30, 2003.

24. Waiver Applicant: Washington Office of Public Instruction

• Provision waived: Tydings Amendment, section 421(b) of GEPA.

• Date waiver granted: December 30, 2003.

• Description of waiver: Extended through February 29, 2004 the period of availability for funds awarded under the School Renovation program that otherwise would have expired on December 31, 2003.

F. Waivers of Administrative Cost Limitation That Applies to Indian Education Funds

As part of their application for funds under the Indian Education Formula Grant program, LEAs were allowed to request, if needed, waivers of the five percent administrative cost limitation in section 7115(d) of the ESEA. The following LEAs received approval of budgets that permitted them to expend more than five percent of their funds on administrative costs for the fiscal year grant awards noted:

• Dillingham City School District, AK—FY 2004 and FY 2005.

• Iditarod Area School District, AK—FY 2005.

• Juneau Borough School District, AK—FY 2005.

• Pike County School District, AL—FY 2004.

• Alhambra School District 68, AZ—FY 2003.

• Cedar Unified School District, AZ—FY 2003.

• Kayenta Unified School District, AZ—FY 2003.

• San Carlos Unified School District, AZ—FY 2003.

• Snowflake Unified School District, AZ—FY 2003.

• Whiteriver Unified School District, AZ—FY 2004.

• Clovis Unified School District, CA—FY 2004.

• El Dorado County Office of Education, CA—FY 2005.

• Eureka City Unified School District, CA—FY 2004 and FY 2005.

• Fortuna Union High School District, CA—FY 2004 and FY 2005.

• Klamath-Trinity Joint Unified School District, CA—FY 2005.

• Marysville Joint Unified School District, CA—FY 2003 and FY 2005.

• Oakland Unified School District, CA—FY 2004.

• Palermo Union Elementary School District, CA—FY 2003 and FY 2005.

• San Diego Unified School District, CA—FY 2005.

• San Francisco Unified School District, CA—FY 2003.

• San Lorenzo Unified School District, CA—FY 2004 and FY 2005.

• Shasta Union High School District, CA—FY 2003 and FY 2004.

• Ventura Unified School District, CA—FY 2004.

• Arkansas City Unified School District 470, KS—FY 2005.

• Coffeyville Unified School District 445, KS—FY 2005.

• Lawrence Unified School District 497, KS—FY 2003 and FY 2005.

• Baraga Area Schools, MI—FY 2003.

• Carman-Ainsworth Community Schools, MI—FY 2003, FY 2004, and FY 2005.

• Gladstone Area Schools, MI—FY 2004 and FY 2005.

• Grand Rapids Public Schools, MI—FY 2004.

• L'Anse Area Schools, MI—FY 2004.

• Bloomington Public Schools, MN—FY 2002.

• Cass Lake-Bena Schools ISD 115, MN—FY 2003.

• East Grand Forks Schools, MN—FY 2003 and FY 2005.

• Grand Rapids Schools ISD 318, MN—FY 2004.

• Minneapolis Special School District 1, MN—FY 2004.

• Richmond County Schools, NC—FY 2004.

• Grand Forks Public Schools, ND—FY 2005.

• Farmington Municipal Schools, NM—FY 2005.

• Washoe County School District, NV—FY 2003 and FY 2004.

• Anadarko Public Schools, OK—FY 2004 and FY 2005.

• Bartlesville Public Schools ISD 30, OK—FY 2003, FY 2004, and FY 2005.

• Bixby Public Schools, OK—FY 2003 and FY 2005.

• Broken Arrow Public Schools, OK—FY 2003 and FY 2005.

• Choctaw-Nicoma Park Schools, OK—FY 2002.

• Coalgate Public Schools, OK—FY 2004.

• Colbert Public Schools, OK—FY 2003, FY 2004, and FY 2005.

• Colcord Public Schools, OK—FY 2003, FY 2004, and FY 2005.

• Collinsville Public Schools, OK—FY 2004.

• Dickson Independent School District, OK—FY 2003.

• El Reno Public Schools, OK—FY 2005.

• Fort Gibson Schools, OK—FY 2003.

• Haskell Public Schools, OK—FY 2004 and FY 2005.

• Jay Public Schools, OK—FY 2003 and FY 2004.

• Little Axe Public Schools, OK—FY 2004.

• Meeker Public Schools, OK—FY 2004.

• Morris Public Schools, OK—FY 2004.

• Mounds Public Schools, OK—FY 2002.

• Muskogee Public Schools, OK—FY 2003 and FY 2004.

• Norman Public Schools, OK—FY 2004.

• Oklahoma City Public Schools, OK—FY 2003 and FY 2005.

• Oolagah-Talala Public Schools, OK—FY 2005.

• Pocola Public Schools, OK—FY 2002.

• Ponca City Public Schools, OK—FY 2003, FY 2004, and FY 2005.

• Poteau Public Schools, OK—FY 2005.

• Sand Springs Public Schools, OK—FY 2004 and FY 2005.

• Sapulpa Public Schools, OK—FY 2002 and FY 2003.

• Sequoyah Public Schools, OK—FY 2005.

• Shawnee Public Schools, OK—FY 2005.

• Sperry Public Schools, OK—FY 2005.

• Sterling Public Schools, OK—FY 2004.

• Sulphur Public Schools, OK—FY 2004.

• Tishomingo Public Schools, OK—FY 2003 and FY 2004.

• Tulsa Public Schools, OK—FY 2003.

• Eugene Public Schools, OR—FY 2004.

• Lincoln County School District, OR—FY 2005.

• Umatilla Confederated Tribes, OR—FY 2003.

• Mitchell School District 17-2, SD—FY 2002.

• Mobridge School District 62-3, SD—FY 2002.

• Rapid City Area School District 51-4, SD—FY 2002.

• Shannon County School District 65-1, SD—FY 2002.

• Sioux Falls School District 49-5, SD—FY 2004.

• Fort Worth Independent School District, TX—FY 2004.

• Edmonds School District 15, WA—FY 2003.

• Highline School District 401, WA—FY 2002, FY 2004, and FY 2005.

• North Thurston School District 3, WA—FY 2003, FY 2004, and FY 2005.

• Okanogan School District 105, WA—FY 2002.

• Puget Sound Educational Service District 121, WA—FY 2003 and FY 2004.

• Quinault Lake School District 97, WA—FY 2002.

• Spokane Public Schools (School District 81), WA—FY 2004.

• Milwaukee Public Schools, WI—FY 2004 and FY 2005.

FOR FURTHER INFORMATION CONTACT: Jeanette Lim, U.S. Department of Education, 400 Maryland Avenue, SW., Room 3W314, Washington, DC 20202. Telephone: (202) 401-9090 or by e-mail: jeanette.lim@ed.gov.

If you use a telecommunications device for the deaf (TDD), you may call the Federal Relay Service (FRS) at 1-800-877-8339. Individuals with disabilities may obtain this document in an alternative format (e.g., Braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Dated: March 7, 2007.
Raymond Simon,
Deputy Secretary.

[FR Doc. 07-1149 Filed 3-9-07; 8:45 am]

BILLING CODE 4000-01-P